DEPARTMENT OF TRANSPORTATION

National Highway Traffic Safety Administration

Reports, Forms and Record Keeping Requirements; Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on May 19, 2005 (70 FR 28843). This is a request for a new collection.

DATES: Comments must be submitted on or before December 29, 2005.

ADDRESSES: Send comments, within 30 days, to the Office of Information and Regulatory Affairs, Office of Management and Budget, 725 17th Street, NW., Washington, DC 20503, Attention NHTSA Desk Officer.

FOR FURTHER INFORMATION CONTACT: Mary Versailles, NHTSA, 400 Seventh Street, SW., Room 5320, NVS-131, Washington, DC 20590. Ms. Versailles' telephone number is (202) 366-2057.

SUPPLEMENTARY INFORMATION:

National Highway Traffic Safety Administration

Title: 49 CFR 545—Federal Motor Vehicle Theft Prevention Standard Phase-In and Small-Volume Line Reporting Requirement.

OMB Control Number: 2127-.

Form Number: None.

Affected Public: Vehicle manufacturers.

Requested Expiration Date of Approval: Three years from approval date.

Abstract: Part 545 requires manufacturers to file a single report within 60 days of the end of the first year of the phase-in (August 31, 2007) indicating compliance with the phase-in of the expansion of the parts marking requirements of 49 CFR part 541.

49 CFR part 541, Federal Motor Vehicle Theft Prevention Standard, requires the major parts of certain motor vehicle lines to be indelibly marked with labels containing the Vehicle Identification Number. This “parts marking requirement” reduces the incidence of motor vehicle thefts by facilitating the tracing and recovery of parts from stolen vehicles, and prosecuting thieves, chop shop operators, and stolen parts dealers.

The Anti Car Theft Act of 1992 (Pub. L. 102-519, October 25, 1992, codified in 49 U.S.C. chapter 331, Theft Prevention) required the Department of Transportation to expand the parts marking requirement to vehicle lines not subject to the current parts marking requirements (except light duty trucks (LDT) lines), unless subsequent to a study reviewing the effectiveness of parts marking, the Attorney General made a finding that extending the requirement would not substantially inhibit chop shop operations and motor vehicle theft.

On April 6, 2004 the agency published a final rule (69 FR 17960) extending the parts marking requirements to certain vehicle lines that were not previously subject to these requirements, specifically: (1) All low theft passenger car lines; (2) all low theft multipurpose passenger vehicle (MPV) lines with a gross vehicle weight rating (GVWR) of 6,000 pounds or less; and (3) low theft LDT lines with a GVWR of 6,000 pounds or less that have major parts that are interchangeable with a majority of the covered major parts of passenger cars or MPVs described above. On May 19, 2005, in response to petitions for reconsideration (70 FR 28843) NHTSA amended the final rule to phase in the effective date over a two-year period.

NHTSA anticipates that no more than 21 vehicle manufacturers will be affected by these reporting requirements. NHTSA does not believe that any of these 21 manufacturers are a small business (i.e., one that employs less than 500 persons) since each manufacturer employs more than 500 persons.

NHTSA estimates that the vehicle manufacturers will incur a total annual reporting burden of 42 hours and a cost burden of $630-$840.

Comments Are Invited On:

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: November 22, 2005.
H. Keith Brewer,
Director, Office of Crash Avoidance Standards.

[FR Doc. E5-6636 Filed 11-28-05; 8:45 am]

BILLING CODE 4910-59-P